OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103.

FOR FURTHER INFORMATION CONTACT: Hughes Turner, Deputy Associate Director, Center for Leadership and Executive Resources Policy, Division for Strategic Human Resources Policy, 202-606-1811.

SUPPLEMENTARY INFORMATION: Appearing in the listing below is one Schedule A appointment, no Schedule B appointments, and Schedule C appointments established between October 1, 2004 and October 31, 2004. Future notices will be published on the fourth Tuesday of each month, or as soon as possible thereafter. A consolidated listing of all authorities as of June 30 is published each year.

Schedule A

Department of Homeland Security 213.3111

Up to 15 Senior Level and General Schedule (or equivalent) positions within the Homeland Security Labor Relations Board and the Homeland Security Mandatory Removal Panel. Effective October 15, 2004.

Schedule B

No Schedule B appointments for October 2004.

Schedule C

The following Schedule C appointments were approved for October 2004:

Section 213.3303 Executive Office of the President, Office of National Drug Control Policy

QQGS00083 Intergovernmental Affairs Liaison to the Chief of Staff. Effective October 19, 2004.

QQGS00086 Legislative Assistant to the Associate Director, Legislative Affairs. Effective October 19, 2004.

Section 213.3304 Department of State

DSGS60797 Legislative Management Officer to the Assistant Secretary for Legislative and Intergovernmental Affairs. Effective October 14, 2004.

DSGS60798 Legislative Management Officer to the Assistant Secretary for Legislative and Intergovernmental Affairs. Effective October 14, 2004.

DSGS60799 Foreign Affairs Officer to the Under Secretary for Global Affairs. Effective October 14, 2004.

DSGS60800 Staff Assistant to the Senior Advisor to the Secretary and White House Liaison. Effective October 28, 2004.

Section 213.3304 Department of Treasury

DYGS00434 Special Assistant to the Deputy Chief of Staff. Effective October 25, 2004.

Section 213.3306 Department of Defense

DDGS16831 Research Assistant to the Deputy Assistant Secretary of Defense (Strategic Communications Planning). Effective October 1, 2004.

DDGS16842 Staff Assistant to the Deputy Assistant Secretary of Defense (Special Operations and Combating Terrorism). Effective October 20, 2004.

Section 213.3307 Department of the Army

DWGS60053 Personal and Confidential Assistant to the Principal Deputy Assistant Secretary of the Army (Financial Management and Comptroller). Effective October 6, 2004.

Section 213.3309 Department of the Air Force

DFGS60007 Confidential Assistant to the Assistant Secretary (Financial Management and Comptroller). Effective October 28, 2004.

Section 213.3310 Department of Justice

DJGS00151 Special Assistant to the Administrator, Drug Enforcement Administration. Effective October 15, 2004.

Section 213.3311 Department of Homeland Security

DMGS00271 Deputy Assistant Secretary for Border and Transportation Security Policy to the Assistant Secretary for Border and Transportation Security Policy. Effective October 4, 2004.

DMGS00274 Writer-Editor to the Executive Secretary. Effective October 12, 2004.

DMGS00273 Special Assistant to the White House Liaison. Effective October 14, 2004.

DMGS00275 Special Assistant to the Chief of Staff. Effective October 15, 2004.

DMGS00276 Press Assistant to the Deputy Assistant Secretary for Public Affairs. Effective October 15, 2004.

DMGS00277 Writer-Editor to the Executive Secretary. Effective October 22, 2004.

Section 213.3313 Department of Agriculture

DAGS00727 Special Assistant to the Under Secretary for Natural Resources and Environment. Effective October 22, 2004.

DAGS00728 Special Assistant to the Under Secretary for Rural Development. Effective October 25, 2004.

Section 213.3314 Department of Commerce

DCGS00663 Executive Director, White House Initiative on Asian Americans and Pacific Islanders to the National Director, Minority Business Development Agency. Effective October 15, 2004.

Section 213.3315 Department of Labor

DLGS60105 Regional Representative to the Assistant Secretary for Congressional and Intergovernmental Affairs. Effective October 6, 2004.

DLGS60234 Chief of Staff to the Assistant Secretary for Policy. Effective October 15, 2004.

Section 213.3316 Department of Health and Human Services

DHGS60187 Special Assistant to the Assistant Secretary for Public Affairs. Effective October 4, 2004.

DHGS60696 Confidential Assistant (Scheduling) to the Director of Scheduling. Effective October 12, 2004.

Section 213.3317 Department of Education

DBGS00206 Deputy Secretary's Regional Representative, Region IX to the Deputy Assistant Secretary for Regional Services. Effective October 27, 2004.

Section 213.3331 Department of Energy

DEGS00431 Senior Policy Advisor to the Assistant Secretary of Energy (Environmental Management). Effective October 22, 2004.

DEGS00432 Senior Scheduler to the Director, Office of Scheduling and Advance. Effective October 7, 2004.

DEGS00433 Special Assistant to the Executive Director, Secretary of Energy Advisory Board. Effective October 7, 2004.

Section 213.3332 Small Business Administration

SBGS00557 Deputy Associate Administrator for Communications and Public Liaison to the Associate Administrator for Communications/Public Liaison. Effective October 4, 2004.

SBGS60558 Legislative Assistant to the Associate Administrator for Congressional and Legislative Affairs. Effective October 14, 2004.

SBGS60559 Assistant Administrator for Congressional and Legislative Affairs to the Associate Administrator for Congressional and Legislative Affairs. Effective October 14, 2004.

SBGS60560 Press Secretary to the Associate Administrator for Communications/Public Liaison. Effective October 20, 2004.

Section 213.3396 National Transportation Safety Board

TBGS60106 Confidential Assistant to a Member. Effective October 7, 2004.

Authority: 5 U.S.C. 3301 and 3302; E.O. 10577, 3 CFR 1954-1958 Comp., P.218.

Office of Personnel Management.
Kay Coles James,
Director.

[FR Doc. 04-25907 Filed 11-22-04; 8:45 am]

BILLING CODE 6325-38-P